DEPARTMENT OF DEFENSE

Office of the Secretary

Federal Advisory Committee; Military Leadership Diversity Commission (MLDC)

AGENCY: Office of the Under Secretary of Defense for Personnel and Readiness, DOD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Military Leadership Diversity Commission (MLDC) will meet on July 7 and 8, 2010, in Baltimore, MD.

DATES: The meeting will be held on July 7 from 7:30 a.m. to 8 p.m. and on July 8, 2010, from 8 a.m. to 4 p.m.

ADDRESSES: The meeting will be held at the Mt. Washington Conference Center, 5801 Smith Ave., Suite 1100, Baltimore, MD 21209.

FOR FURTHER INFORMATION CONTACT: Master Chief Steven A. Hady, Designated Federal Officer, MLDC, at (703) 602-0838, 1851 South Bell Street, Suite 532, Arlington, VA. e-mail: steven.hady@wso.whs.mil.

SUPPLEMENTARY INFORMATION:

Purpose of the Meeting

The purpose of the meeting is for the commissioners of the Military Leadership Diversity Commission to continue their efforts to address congressional concerns as outlined in the commission charter.

Agenda

July 7, 2010

7:30 a.m.-7:45 a.m.

DFO opens the meeting.

Commission Chairman opening remarks.

DFO recesses the meeting.

8:45 a.m.-9:45 a.m.

DFO opens the meeting.

Deliberation of decision paper for definition of diversity.

DFO recesses the meeting.

10:45 a.m.-11:45 a.m.

DFO opens the meeting.

Deliberation of decision paper for implementation and accountability.

DFO recesses the meeting.

1:45 p.m.-2:45 p.m.

DFO opens the meeting.

Deliberation of decision paper for metrics.

DFO recesses the meeting.

3:45 p.m.-4:45 p.m.

DFO opens the meeting.

Deliberation of decision paper for legal implications of diversity management.

DFO recesses the meeting.

4:45 p.m.-5 p.m.

DFO opens the meeting.

Public comments.

DFO recesses the meeting.

7 p.m.-8 p.m.

DFO opens the meeting.

Deliberation of decision paper for branching and assignments.

Commission Chairmen closing remarks.

DFO adjourns the meeting.

July 8, 2010

8 a.m.-8:15 a.m.

DFO opens the meeting.

Commission Chairman opening remarks.

DFO recesses the meeting.

9:15 a.m.-10:15 a.m.

DFO opens the meeting.

Deliberation of decision paper for diversity leadership and training.

DFO recesses the meeting.

11:15 a.m.-12:15 a.m.

DFO opens the meeting.

Deliberation of decision paper for promotion.

DFO recesses the meeting.

2:15 p.m.-3:15 p.m.

DFO opens the meeting.

Deliberation of decision paper for retention.

3:15 p.m.-4 p.m.

Public Comments.

Commission Chairman closing remarks.

DFO adjourns the meeting.

Public's Accessibility to the Meeting

Pursuant to 5 U.S.C. 552b and 41 CFR 102-3.140 through 102-3.165, and the availability of space, the meetings on July 7 thru 8, 2010 will be open to the public. Please note that the availability of seating is on a first-come basis.

Written Statements

Pursuant to 41 CFR 102-3.105(j) and 102-3.140, and section 10(a)(3) of the Federal Advisory Committee Act of 1972, the public or interested organizations may submit written statements to the Military Leadership Diversity Commission about its mission and functions. Written statements may be submitted at any time or in response to the stated agenda of a planned meeting of the Military Leadership Diversity Commission.

All written statements shall be submitted to the Designated Federal Officer for the Military Leadership Diversity Commission, and this individual will ensure that the written statements are provided to the membership for its consideration. Contact information for the Designated Federal Officer can be obtained from the GSA's FACA Database— https://www.fido.gov/facadatabase/public.asp.

Statements being submitted in response to the agenda mentioned in this notice must be received by the Designated Federal Officer (see FOR FURTHER INFORMATION CONTACT) at least five calendar days prior to the meeting that is the subject of this notice. Written statements received after this date may not be provided to or considered by the Military Leadership Diversity Commission until its next meeting.

The Designated Federal Officer will review all timely submissions with the Military Leadership Diversity Commission Chairperson and ensure they are provided to all members of the Military Leadership Diversity Commission before the meeting that is the subject of this notice.

Dated: June 14, 2010.
Mitchell S. Bryman,
Alternate OSD Federal Register Liaison Officer, Department of Defense.

[FR Doc. 2010-14713 Filed 6-17-10; 8:45 am]

BILLING CODE 5001-06-P